SECURITIES AND EXCHANGE COMMISSION

[Release No. 34-44738; File No. SR-Amex-2001-60]

Self-Regulatory Organizations; Notice of Filing and Immediate Effectiveness of Proposed Rule Change by the American Stock Exchange LLC Suspending the Collection of a Marketing Fee From Specialists and Registered Options Traders

August 22, 2001.

Pursuant to Section 19(b)(1) of the Securities Exchange Act of 1934 (“Act”),¹ and Rule 19b-4 thereunder,² notice is hereby given that on August 7, 2001, the American Stock Exchange LLC (“Amex”) filed with the Securities and Exchange Commission (“Commission”) the proposed rule change as described in Items I, II, and III, below, which Items the Amex has prepared. The Commission is publishing this notice to solicit comments on the proposed rule change from interested persons.

¹ 15 U.S.C. 78s(b)(1).

² 17 CFR 240.19b-4.

I. Self-Regulatory Organization's Statement of the Terms of Substance of the Proposed Rule Change

The Amex proposes to suspend collection of the marketing fee that it currently imposes on equity options transactions of specialists and registered options traders (“ROTs”). The text of the proposed rule change is available at the principal offices of the Amex and at the Commission.

II. Self-Regulatory Organization's Statement of the Purpose of, and Statutory Basis for, the Proposed Rule Change

In its filing with the Commission, the Amex included statements concerning the purpose of and basis for the proposed rule change and discussed any comments it had received. The text of these statements may be examined at the places specified in Item IV below. The Amex has prepared summaries, set forth in Sections A, B, and C below, of the most significant aspects of such statements.

A. Self-Regulatory Organization's Statement of the Purpose of, and Statutory Basis for, the Proposed Rule Change

1. Purpose

The Amex proposes to suspend collection of the marketing fee that it currently imposes on equity options transactions of specialists and ROTs.

In July 2000, the Amex imposed a marketing fee of $0.40 per contract on the transactions of specialists and ROTs in equity options.³ The Amex collects the fee and allocates the funds to the Amex's specialists, who may then use the funds to pay broker-dealers for orders that they direct to the Amex. The specialists, in their discretion, determine the specific terms governing the orders that qualify for payment and the amount of any payments. The Amex also instituted a rebate program whereby funds collected and unspent are returned to the specialists and ROTs.⁴

³ See Securities Exchange Act Release No. 43228 (August 30, 2000), 65 FR 54330 (September 7, 2000) (SR-Amex-2000-38). Trades between ROTs and trades between specialists and ROTs were excluded from the marketing fee.

⁴ See Securities Exchange Act Release No. 44598 (July 26, 2001), 66 FR 41071 (August 6, 2001) (SR-Amex-2001-38).

The Amex now proposes to suspend collection of the marketing fee for an indeterminate period of time. The Amex would also reserve the right to reinstate the program if it determines to do so. The Amex notes that the funds collected before the suspension of the program would continue to be allocated to the specialists and disbursed pursuant to the specialists' instructions. In addition, the rebate program mentioned above would remain in effect until all unspent money is returned to the specialists and ROTs.

2. Statutory Basis

The Amex believes that the proposed rule change is consistent with Section 6(b) of the Act ⁵ and furthers the objectives of Section 6(b)(4) of the Act ⁶ in that it is designed to provide for the equitable allocation of reasonable dues, fees, and other charges among its members and issuers and other persons using its facilitates.

⁵ 15 U.S.C. 78f(b).

⁶ 15 U.S.C. 78f(b)(4).

B. Self-Regulatory Organization's Statement on Burden on Competition

The Amex does not believe that the proposed rule change will impose any inappropriate burden on competition.

C. Self-Regulatory Organization's Statement on Comments on the Proposed Rule Change Received From Members, Participants or Others

The Amex neither solicited nor received any written comments with respect to the proposal.

III. Date of Effectiveness of the Proposed Rule Change and Timing for Commission Action

The Amex has designated the foregoing proposed rule change as a fee change pursuant to Section 19(b)(3)(A)(ii) of the Act ⁷ and Rule 19b-4(f)(2) thereunder,⁸ and therefore the proposal has become effective upon filing with the Commission. At any time within 60 days after the filing of the proposed rule change, the Commission may summarily abrogate the rule change if it appears to the Commission that such action is necessary or appropriate in the public interest, for the protection of investors, or otherwise in furtherance of the purposes of the Act.

⁷ 15 U.S.C. 78s(b)(3)(A)(ii).

⁸ 17 CFR 240.19b-4(f)(2).

IV. Solicitation of Comments

Interested persons are invited to submit written data, views, and arguments concerning the foregoing, including whether the proposed rule change is consistent with the Act. Persons making written submissions should file six copies thereof with the Secretary, Securities and Exchange Commission, 450 Fifth Street, NW, Washington, D.C. 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the Amex. All submissions should refer to File No. SR-Amex-2001-60 and should be submitted by September 19, 2001.

For the Commission, by the Division of Market Regulation, pursuant to delegated authority.⁹

⁹ 17 CFR 200.30-3(a)(12).

Margaret H. McFarland,
Deputy Secretary.

[FR Doc. 01-21792 Filed 8-28-01; 8:45 am]

BILLING CODE 8010-01-M